DEPARTMENT OF COMMERCE

National Oceanic and Atmospheric Administration

[I.D. 032204E]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its Coral Reef Ecosystem Plan Team (CREPT) and Crustaceans Plan Team (CPT) meetings in Honolulu, HI.

DATES: The CREPT meeting will be held from April 20 through April 22, 2004. The CPT meeting will be held on April 23, 2004. All meetings will begin at 8:30 a.m. and are expected to end at 5 p.m.

ADDRESSES: The meetings will be held at the Council Office Conference Room, 1164 Bishop St., Suite 1400, Honolulu, HI 96813.

FOR FURTHER INFORMATION CONTACT: Kitty M. Simonds, Executive Director; telephone: (808) 522-8220.

SUPPLEMENTARY INFORMATION: The CREPT will meet from April 20-22, 2004, at the Council Office Conference Room to discuss the following agenda items:

Tuesday, April 20, 2004

1. Introductions

2. Island Reports

3. Essential Fish Habitat and Habitat Areas of Particular Concern

a. Refinement of Essential Fish Habitat (EFH) Designations

b. Review of Habitat Areas of Particular Concern

c. EFH Review for Annual Report

4. Report on Coral Reef Fish Stock Assessment Workshop and Review of Recommendations

5. National Ocean Service Northwest Hawaiian Islands (NOS NWHI) Sanctuary Designation Process

6. Archipelagic-based Fishery Ecosystem Plan

Wednesday and Thursday, April 21-22, 2004

7. Status of Coral Reef Ecosystem Fishery Management Plan (FMP) and Plan Implementation

8. Development of Annual Reports for Western Pacific Coral Reef Fisheries

a. Review of Trophic-level Species Assignment

b. Organization of Annual Report

9. Other Business

The CPT will meet April 23, 2004, at the Council Office Conference Room to discuss the following agenda items:

Tuesday, April 23, 2004

1. Introductions

2. Review of Last Meeting and Recommendations

3. MultiFAN-CL NWHI Lobster Population Model

4. 2004 Plans for NWHI Lobster Cruise and Charter

5. Main Hawaiian Islands (MHI) Lobster Stock Assessment

6. Crustaceans Annual Report

7. Crustaceans FMP Compliance Issue

8. Essential Fish Habitat and Habitat Areas of Particular Concern

9. NOS NWHI Sanctuary Designation Process

10. Archipelagic-based Fishery Ecosystem Plan

11. Other Business

The order in which agenda items are addressed may change. Public comment periods will be provided throughout the agenda.

The CREPT and CPT will meet as late as necessary to complete scheduled business.

Although non-emergency issues not contained in this agenda may come before the CREPT and CPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Dated: March 26,2004.
Alan D. Risenhoover,
Acting Director, Office of Sustainable Fisheries, National Marine Fisheries Service.

[FR Doc. 04-7252 Filed 3-30-04; 8:45 am]

BILLING CODE 3510-22-S